INTERNATIONAL TRADE COMMISSION

[Investigation No. 337-TA-837]

Certain Audiovisual Components and Products Containing the Same; Notice of Commission Determination To Review a Final Initial Determination Finding a Violation of Section 337 in Its Entirety; Schedule for Filing Written Submissions on Certain Issues Under Review and on Remedy, Bonding, and the Public Interest

AGENCY: U.S. International Trade Commission.

ACTION: Correction of Notice of Commission Determination to Review a Final Initial Determination Finding a Violation of Section 337 in Its Entirety; Schedule for Filing Written Submissions on Certain Issues Under Review and on Remedy, Bonding, and the Public Interest.

SUMMARY: Correction is made to deadline for reply submissions from Monday, November 11, 2013 to Tuesday, November 12, 2013.

By order of the Commission.
Issued: October 18, 2013.
Lisa R. Barton,
Secretary to the Commission.

[FR Doc. 2013-24896 Filed 10-23-13; 8:45 am]

BILLING CODE 7020-02-P